DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Outcomes Evaluation of the Garrett Lee Smith Suicide Prevention Program—Revision

The Substance Abuse and Mental Health Services Administration (SAMHSA) Center for Mental Health Services (CMHS) is requesting clearance for the revision of data collection associated with the previously-approved cross-site evaluation of the Garrett Lee Smith (GLS) Youth Suicide Prevention and Early Intervention Program (GLS Suicide Prevention Program), now entitled National Outcomes Evaluation (NOE). The NOE is a proposed redesign of the currently-approved cross-site evaluation (OMB No. 0930-0286; Expiration, January 2017) that builds on prior published GLS evaluation proximal and distal training and aggregate findings from program activities (e.g., Condron et al., 2014; Walrath et al., 2015). As a result of the vast body of information collected and analyzed through the cross-site evaluation of the two GLS Suicide Prevention Programs components—the GLS State/Tribal Program and the GLS Campus Program—SAMHSA has identified areas for additional investigation and the types of inquiry needed to move the evaluation into its next phase.

The NOE aims to address the field's need for additional evidence on the impacts of the GLS Suicide Prevention Program in three areas: (1) Suicide prevention training effectiveness, (2) early identification and referral on subsequent care follow-up and adherence, and (3) suicide safer care practices within health care settings. The evaluation comprises three distinct, but interconnected core studies—Training, Continuity of Care (COC), and Suicide Safer Environment (SSE). The Training and SSE studies also have “enhanced” study components. Core study data align with required program activities across the State/Tribal and Campus programs and provide continuity with and utility of data previously collected (implementation and proximal outcomes). Enhanced components use experimental and quasi-experimental methods (randomized controlled trial [RCT] and retrospective cohort study designs) to truly assess program impacts on distal outcomes (e.g., identifications and referrals, hospitalizations, and suicide attempts and deaths) without undue burden on grantees and youth. This outcome- and impact-focused design reflects SAMHSA's desire to assess the implementation, outcomes, and impacts of the GLS program.

The NOE builds on information collected through the four-stage cross-site evaluation approach (context, product, process, and impact) to further the field of suicide prevention and mental health promotion. Of notable importance, the design now accounts for differences in State/Tribal and Campus program grant funding cycles (i.e., 5-year State/Tribal and 3-year Campus programs), while also establishing continuity with and maximizing utility of data previously collected. Further, the evaluation meets the legislative requirements outlined in the GLSMA to inform performance and implementation of programs.

Eleven data collection activities compose the NOE—two new instruments, three previously-approved instruments, and six previously-approved and improved instruments. As GLS program foci differ by grantee type, some instruments will apply to either State/Tribal or Campus programs only. Of the 11 instruments, 2 will be administered with State/Tribal and Campus grantees (tailored to grantee type), 6 are specific to State/Tribal grantees, and 3 pertain only to Campus grantees.

Instrument Removals

Due to the fulfillment of data collection goals, six currently-approved instruments and their associated burden will be removed. The combined estimated annual burden for these instruments is 4,300 hours. These include the State/Tribal Training Utilization and Preservation Survey.

(TUP-S) Adolescent Version, Coalition Profile, and Coalition Survey, and the Campus Training Exit Survey (TES) Interview Forms, Life Skills Activities Follow-up Interview, and the Student Awareness Intercept Survey

Instrument Continuations

Three instruments will be administered only in OMB Year 1 to finalize data collection for the current cross-site evaluation protocol. Each instrument was previously approved as part of the four-stage approach (OMB No. 0930-0286; Expiration, January 2017) and no changes are being made. These include the State/Tribal Referral Network Survey (RNS), TUP-S Campus Version, and Campus Short Message Service Survey (SMSS). Each instrument will be discontinued once the associated data collection requirement has been fulfilled.

Instrument Revisions

Six currently-approved instruments will be revised for the NOE. Each of the instruments, or an iteration thereof, has received approval through multiple cross-site evaluation packages cleared by OMB. As such, the information gathered has been, and will continue to be, crucial to this effort and to the field of suicide prevention and mental health promotion.

Prevention Strategies Inventory (PSI): The PSI has been updated to enhance the utility and accuracy of the data collected. Changes capture different strategies implemented and products distributed by grantee programs, the population of focus for each strategy, total GLS budget expenditures, and the percent of funds allocated by the activity type.

Training Activity Summary Page (TASP): New items on the TASP gather information about the use of behavioral rehearsal and/or role-play and resources provided at trainings—practices that have been found to improve retention of knowledge and skills posttraining. In addition, understanding how skills can be maintained over time with materials provided at trainings (e.g., video reminders, wallet cards, online and phone applications) is an area suggested for further study (Cross et al., 2011).

Training Utilization and Preservation Survey (TUP-S) 3 and 6-month follow up: The TUP-S has been improved to examine posttraining behaviors and utilization of skills by training participants—factors known to improve understanding of the comprehensive training process and the impact of training on identifications, referrals, and service use. The survey now requests information about training resources received, practice components, trainee participation in role play, and previous suicide prevention trainings attended; experience intervening with a suicidal individual (from QPR evaluation tool), intended use of the training, and referral behaviors; and previous contact and quality of relationships with youth. Broad items about training others, the use/intended use of skills, and barriers/facilitators have been removed. The consent-to-contact form has been modified to add brief items about the trainee and previous identifications/referrals. The TUP-S will be administered at 3 and 6 months post-training to a random sample of training participants via CATI (2000 ST TUP-S 3-mo/600 ST TUP-S 6-mo per year).

Early Intervention, Referral, and Follow-up Individual Form (EIRF-I): The EIRF-I has been improved to gather initial follow-up information about youth identified as being at risk as a result of the State/Tribal GLS program (whether or not a service was received after referral). In addition, EIRF-I (1) data elements have been expanded to include screening practices, screening tools, and screening results of youth identified as at-risk for suicide; (2) response options have been expanded/refined (i.e., setting/source of identification, mental health and non-mental health referral locations, and services received); (3) tribal-specific data elements have been added; and (4) sources of information used has been removed.

EIRF Screening Form (EIRF-S): Data elements have been added to indicate whether State/Tribal screenings were performed at the individual- or group-level. New response options have been added under “screening tool” and “false positive” has been removed.

Student Behavioral Health Form (SBHF): The SBHF (formerly entitled the MIS) has been expanded and renamed. The Campus form has been enhanced to include referral and follow-up procedure questions (rather than simply counts); numbers screened, identified at risk, receiving suicide-specific services, referred, and receiving follow-up; and age and gender breakdowns of suicide attempts and deaths. Student enrollment/retention items have been removed; these will be obtained through the Integrated Postsecondary Education Data System. The SBHF will require closer involvement with campus behavioral health/health providers to gather data on procedural questions and screenings, risk assessment, services, referrals, and follow-ups.

Instrument Additions

Four instruments will augment the evaluation—two are newly developed instruments and two represent new versions of existing instruments.

TUP-S RCT (Baseline and 12-Month versions): The TUP-S RCT refers to versions administered as part of the Training Study RCT. The RCT collects TUP-S data at baseline (pre-training) and 3, 6, and 12 months after training. Because the surveys are conducted at different times, each version refers the participant to a specific time period. All trainees from States/Tribes participating in the RCT and who consent to be contacted will be surveyed until the desired sample size of 1332 respondents is achieved. The consent-to-contact form will describe the RCT and the 4 assessment periods. The consent-to-contact form will describe the RCT and the 4 assessment periods.

Behavior Health Provider Survey (BHPS): The BHPS is a new State/Tribal data collection activity and the first to specifically target behavioral health providers partnering with GLS grantees. Data will include information about referrals for at-risk youth, SSE care practices implemented, and client outcomes (number of suicide attempts and deaths). A total of 1-10 respondents from each State/Tribal grantee's partnering behavioral health provider will participate annually.

The estimated response burden to collect this information associated with the redesigned National Outcomes Evaluation is as follows annualized over the requested 3-year clearance period is presented below:

Total and Annualized Averages: Respondents, Responses and Hours
Type of respondent | Instrument | Number of respondents | Responses per respondent | Total number of responses | Burden per response (hours) | Annual burden (hours)
STATE/TRIBAL INSTRUMENTS
Project Evaluator | PSI | 43 | 4 | 172 | 0.750 | 129
Project Evaluator | TASP | 43 | 4 | 172 | 0.250 | 43
Project Evaluator | EIRF-Individual Form | 43 | 4 | 172 | 0.750 | 129
Project Evaluator | EIRF Screening Form | 43 | 4 | 172 | 0.750 | 129
Provider Trainee | TUP-S Consent to Contact | 6,000 | 1 | 6000 | 0.167 | 1000
Provider Trainee | TUP-S 3 Month Version | 2,000 | 1 | 2000 | 0.500 | 1000
Provider Trainee | TUP-S 6 Month Version | 600 | 1 | 600 | 0.417 | 250
Provider Trainee | TUP-S RCT BL Version | 444 | 1 | 444 | 0.417 | 185
Provider Trainee | TUP-S RCT 3 Month Version | 444 | 1 | 444 | 0.500 | 222
Provider Trainee | TUP-S RCT 6 Month Version | 444 | 1 | 444 | 0.417 | 185
Provider Trainee | TUP-S RCT 12 Month Version | 444 | 1 | 444 | 0.417 | 185
Provider Stakeholder | RNS | 26 | 1 | 26 | 0.667 | 17
Behavioral Health Provider | BHPS | 407 | 1 | 407 | 0.750 | 305
CAMPUS INSTRUMENTS
Project Evaluator | PSI | 56 | 4 | 224 | 0.750 | 168
Project Evaluator | TASP | 56 | 4 | 224 | 0.250 | 56
Project Evaluator | SBHF | 56 | 1 | 56 | 0.667 | 37
Student | TUP-S Campus Version | 167 | 1 | 167 | 0.167 | 28
Student | SMSS | 734 | 1 | 734 | 0.083 | 61
Total | 12,050 |  | 12,902 |  | 4,129
* Rounded to the nearest whole number.

Send comments to Summer King, SAMHSA Reports Clearance Officer, Room 2-1057, One Choke Cherry Road, Rockville, MD 20857 OR email her a copy at summer.king@samhsa.hhs.gov. Written comments should be received by December 7, 2015.

Summer King,
Statistician.

[FR Doc. 2015-25472 Filed 10-6-15; 8:45 am]

BILLING CODE 4162-20-P